DEPARTMENT OF JUSTICE

Bureau of Alcohol, Tobacco, Firearms, and Explosives

27 CFR Parts 447, 478, and 479

[Docket No. 2018R-22F; AG Order No. 4406-2019]

RIN 1140-AA52

Bump-Stock-Type Devices

AGENCY: Bureau of Alcohol, Tobacco, Firearms, and Explosives; Department of Justice.

ACTION: Final rule; ratification.

SUMMARY: The Attorney General is ratifying a final rule, published in the Federal Register on December 26, 2018, that amended the definition of “machinegun” (or “machine gun”) in Department of Justice regulations. The ratification is issued as a prudential matter in light of pending litigation.

DATES: March 14, 2019.

FOR FURTHER INFORMATION CONTACT: Vivian Chu, Office of Regulatory Affairs, Enforcement Programs and Services, Bureau of Alcohol, Tobacco, Firearms, and Explosives, U.S. Department of Justice, 99 New York Ave. NE, Washington, DC 20226; telephone: (202) 648-7070.

SUPPLEMENTARY INFORMATION: On December 26, 2018, the Department of Justice published a final rule in the Federal Register that amended the definition of “machinegun” (or “machine gun”) contained in 27 CFR 447.11, 478.11, and 479.11. See 83 FR 66514. That final rule, which was adopted after the publication of a notice of proposed rulemaking in the Federal Register and a period of public comment, was signed by Acting Attorney General Matthew G. Whitaker on December 18, 2018.

That final rule has become the subject of litigation in which parties have argued that Mr. Whitaker was not validly serving as the Acting Attorney General, as either a statutory or constitutional matter.

On February 14, 2019, I was sworn in as Attorney General following confirmation by the Senate and appointment by the President. Although I believe that the challenges to Mr. Whitaker's designation lack merit, I elected, out of an abundance of caution, to independently reevaluate the above-mentioned rule and the underlying rulemaking record.

Having now familiarized myself with the rulemaking record that was before the Acting Attorney General and having reevaluated those materials without any deference to his earlier decision, I have personally come to the conclusion that it is appropriate to ratify and affirm the final rule as it was published at 83 FR 66514, and I hereby do so.

Dated: March 11, 2019.
William P. Barr,
Attorney General.

[FR Doc. 2019-04799 Filed 3-12-19; 11:15 am]

BILLING CODE 4410-FY-P